SUSQUEHANNA RIVER BASIN COMMISSION

Advertisement for Mandatory Pre-Proposal Conference and Site Visit

AGENCY: Susquehanna River Basin Commission.

ACTION: Notice.

SUMMARY: This notice includes an advertisement for a mandatory pre-proposal conference and site visit as outlined below.

DATES: October 21 and 28, 2021.

ADDRESSES: Susquehanna River Basin Commission, 4423 North Front Street, Harrisburg, PA 17110-1788.

FOR FURTHER INFORMATION CONTACT: Marcia Hutchinson, telephone: (717) 238-0423, ext. 1318; fax: (717) 238-2436; email: mhutchinson@srbc.net. Regular mail inquiries may be sent to the above address.

SUPPLEMENTARY INFORMATION: The Susquehanna River Basin Commission (Commission) will be seeking a firm or firms to provide professional design services for a mine drainage (MD) conveyance system and active treatment plant to be located near Blossburg Borough, Tioga County, Pennsylvania. The Mandatory Pre-Proposal Conference (Conference) will take place on October 21, 2021 from 10:00 to 11:00 via an online platform of the SRBC's choosing. The SRBC will provide a brief presentation with the remainder of the time available for questions. The Mandatory Site Visit (Site Visit) will take place on October 28, 2021 from 10:00 to 15:00 in Blossburg, PA. The SRBC will not entertain questions during the Site Visit and interested entities are encouraged to prepare for inclement weather and difficult terrain.

To register for the Conference and Site Visit, interested entities should email the SRBC at rsvp@srbc.net by October 19, 2021 with the subject line “Morris Run Conference”, and include the following information within the email: Names, email addresses and telephone numbers of all individuals interested in participating, as well as your company name and mailing address. Following the close of the registration period, registered entities will receive a web link and instructions to participate in the Conference.

The Commission will release its Request for Proposals for the work on October 14, 2021.

The principal items of work to be performed include:

• Design and permitting for a MD conveyance system and active treatment plant.

• Preparation of construction documents and construction bid administration.

Authority: Pub. L. 91-575, 84 Stat. 1509 et seq., §§ 5.1, 7.1, 7.4 and 15.9.

Dated: September 13, 2021.
Jason E. Oyler,
General Counsel and Secretary to the Commission.

[FR Doc. 2021-20032 Filed 9-15-21; 8:45 am]

BILLING CODE 7040-01-P